NATIONAL SCIENCE FOUNDATION

Advisory Panel for Biological Infrastructure; Notice of Meeting

In accordance with the Federal Advisory Committee Act (Pub. L. 92-463, as amended), the National Science Foundation announces the following meeting:

Name: Advisory Panel for Biological Infrastructure (#1215).

Date and Time: November 30-December 1, 2000, 8:30 a.m.-5 p.m.

Place: National Science Foundation at 4201 Wilson Boulevard, Arlington, VA.

Type of Meeting: Closed.

Contact Person: Gerald Selzer, Program Director Biological Instrumentation and Instrument Development, National Science Foundation, Rm. 615, 4201 Wilson Boulevard, Arlington, VA 22230. Telephone (703) 292-8470.

Purpose of Meeting: To provide advice and recommendations concerning proposals submitted to NSF for financial support.

Agenda: To review and evaluate proposal for acquisition of Biological Instrumentation and Instrument Development for the Instrument Development for Biological Research (IDBR) Program as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: November 6, 2000.
Karen J. York,
Committee Management Officer.

[FR Doc. 00-28786 Filed 11-8-00; 8:45 am]

BILLING CODE 7555-01-M